DEPARTMENT OF COMMERCE

Foreign-Trade Zones Board

[Order No. 2117]

Designation of New Grantee, Foreign-Trade Zone 218, St. Lucie County, Florida

Pursuant to its authority under the Foreign-Trade Zones Act of June 18, 1934, as amended (19 U.S.C. 81a-81u), the Foreign-Trade Zones Board (the Board) adopts the following Order:

The Foreign-Trade Zones (FTZ) Board (the Board) has considered the application (docketed May 17, 2021) submitted by Treasure Coast Foreign-Trade Zone, Inc., grantee of FTZ 218, requesting reissuance of the grant of authority for said zone to St. Lucie County, Florida, which has accepted such reissuance subject to approval by the FTZ Board. Upon review, the Board finds that the requirements of the FTZ Act and the Board's regulations are satisfied, and that the proposal is in the public interest.

Therefore, the Board approves the application and recognizes St. Lucie County, Florida as the new grantee for Foreign-Trade Zone 218, subject to the FTZ Act and the Board's regulations, including Section 400.13.

Dated: August 24, 2021.
Christian B. Marsh,
Acting Assistant Secretary, for Enforcement and Compliance, Alternate Chairman, Foreign-Trade Zones Board.

[FR Doc. 2021-18593 Filed 8-27-21; 8:45 am]

BILLING CODE 3510-DS-P